NUCLEAR REGULATORY COMMISSION

Sunshine Federal Register Notice

AGENCY HOLDING THE MEETINGS: Nuclear Regulatory Commission, [NRC-2012-0002].

DATE: Weeks of May 7, 14, 21, 28, June 4, 11, 2012.

PLACE: Commissioners' Conference Room, 11555 Rockville Pike, Rockville, Maryland.

STATUS: Public and Closed.

Week of May 7, 2012

Friday, May 11, 2012

9:00 a.m. Briefing on Potential Medical Isotope Production Licensing Actions, (Public Meeting), (Contact: Jessie Quichocho, 301-415-0209).

This meeting will be webcast live at the Web address: www.nrc.gov.

Week of May 14, 2012—Tentative

There are no meetings scheduled for the week of May 14, 2012.

Week of May 21, 2012—Tentative

There are no meetings scheduled for the week of May 21, 2012.

Week of May 28, 2012—Tentative

Friday, June 1, 2012

9:00 a.m. Briefing on Results of the Agency Action Review Meeting (AARM) (Public Meeting) (Contact: Rani Franovich, 301-415-1868).

This meeting will be webcast live at the Web address: www.nrc.gov.

Week of June 4, 2012—Tentative

Thursday, June 7, 2012

9:30 a.m. Meeting with the Advisory Committee on Reactor Safeguards (ACRS) (Public Meeting) (Contact: Tanny Santos, 301-415-7270).

This meeting will be webcast live at the Web address: www.nrc.gov.

Week of June 11, 2012—Tentative

Friday, June 15, 2012

9:30 a.m. Joint Meeting of the Federal Energy Regulatory Commission (FERC) and the Nuclear Regulatory Commission (NRC) on Grid Reliability (Public Meeting) (Contact: Jim Andersen, 301-415- 3565).

This meeting will be webcast live at the Web address: www.nrc.gov.

* * * * *

* The schedule for Commission meetings is subject to change on short notice. To verify the status of meetings, call (recording)—301-415-1292. Contact person for more information: Rochelle Bavol, 301-415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Bill Dosch, Chief, Work Life and Benefits Branch, at 301-415-6200, TDD: 301-415-2100, or by email at william.dosch@nrc.gov. Determinations on requests for reasonable accommodation will be made on a case-by-case basis.

* * * * *

This notice is distributed electronically to subscribers. If you no longer wish to receive it, or would like to be added to the distribution, please contact the Office of the Secretary, Washington, DC 20555 (301-415-1969), or send an email to darlene.wright@nrc.gov.

Dated: May 3, 2012.
Rochelle C. Bavol,
Policy Coordinator, Office of the Secretary.

[FR Doc. 2012-11162 Filed 5-4-12; 4:15 pm]

BILLING CODE 7590-01-P